DEPARTMENT OF ENERGY

Federal Energy Regulatory Commission

[Docket No. RP01-44-000]

Iroquois Gas Transmission System, L.P., Notice of Filing of Request for Exemption

October 18, 2000.

Take notice that on October 13, 2000, Iroquois Gas Transmission System, L.P. (Iroquois) tendered for filing a request for an exemption from the imbalance trading requirement established in Order No. 587-L.

Iroquois states that its request is made pursuant to the Commission's September 28, 2000 Order in Docket No. RM96-1-016 (92 FERC ¶ 61,266).

Iroquois states that copies of its filing were served on all jurisdictional customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed on or before October 25, 2000. Protests will be considered by the Commission in determining the appropriate action to be taken, but will serve to make protestants parties to the proceedings. Any person wishing to become a party must file a motion to intervene. Copies of this filing are on file with the Commission and are available for public inspection in the Public Reference Room. This filing may be viewed on the web at http://www/ferc./fed.us/online/rims.htm (call 202-208-2222 for assistance).

David P. Boergers
Secretary.

[FR Doc. 00-27267 Filed 10-23-00; 8:45 am]

BILLING CODE 6717-01­-M